DEPARTMENT OF COMMERCE

Foreign-Trade Zones Board

[Order No. 2162]

Approval of Expansion of Subzone 116F; Port Arthur LNG, LLC; Port Arthur and Jefferson County, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of subzones for specific uses;

Whereas, the Foreign-Trade Zone of Southeast Texas, Inc., grantee of Foreign-Trade Zone 116, has made application to the Board to expand Subzone 116F on behalf of Port Arthur LNG, LLC, to include a site in Port Arthur, Texas (FTZ Docket B-5-2024, docketed January 18, 2024);

Whereas, notice inviting public comment has been given in the Federal Register (89 FR 4274, January 23, 2024) and the application has been processed pursuant to the FTZ Act and the Board's regulations; and,

Whereas, the Board adopts the findings and recommendations of the examiners' memorandum, and finds that the requirements of the FTZ Act and the Board's regulations are satisfied;

Now, Therefore, the Board hereby approves the expansion of Subzone 116F on behalf of Port Arthur LNG, LLC, located in Port Arthur, Texas, as described in the application and Federal Register notice, subject to the FTZ Act and the Board's regulations, including section 400.13.

Dated: May 16, 2024.
Dawn Shackleford,
Executive Director of Trade Agreements Policy & Negotiations, Alternate Chairman, Foreign-Trade Zones Board.

[FR Doc. 2024-11196 Filed 5-21-24; 8:45 am]

BILLING CODE 3510-DS-P